DEPARTMENT OF VETERANS AFFAIRS

[OMB Control No. 2900-0046]

Agency Information Collection (Statement of Heirs for Payment of Credits Due Estate of Deceased Veteran) Activities Under OMB Review

AGENCY: Veterans Benefits Administration, Department of Veterans Affairs.

ACTION: Notice.

SUMMARY: In compliance with the Paperwork Reduction Act (PRA) of 1995 (44 U.S.C. 3501-3521), this notice announces that the Veterans Benefits Administration, Department of Veterans Affairs, will submit the collection of information abstracted below to the Office of Management and Budget (OMB) for review and comment. The PRA submission describes the nature of the information collection and its expected cost and burden and includes the actual data collection instrument.

DATES: Comments must be submitted on or before September 27, 2013.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0046” in any correspondence.

FOR FURTHER INFORMATION CONTACT: Crystal Rennie, Enterprise Records Service (005R1B), Department of Veterans Affairs, 810 Vermont Avenue NW., Washington, DC 20420, (202) 632-7492 or email crystal.rennie@va.gov. Please refer to “OMB Control No. 2900-0046.”

SUPPLEMENTARY INFORMATION:

Title: Statement of Heirs for Payment of Credits Due Estate of Deceased Veteran, VA Form Letter 29-596.

OMB Control Number: 2900-0046.

Type of Review: Extension of a currently approved collection.

Abstract: VA Form 29-596 is used by an administrator, executor, or next of kin to support a claim for money in the form of unearned or unapplied insurance premiums due to a deceased Veteran's estate.

An agency may not conduct or sponsor, and a person is not required to respond to a collection of information unless it displays a currently valid OMB control number. The Federal Register Notice with a 60-day comment period soliciting comments on this collection of information was published on May 20, 2013, at page 29434.

Affected Public: Individuals or households.

Estimated Annual Burden: 78 hours.

Estimated Average Burden per Respondent: 15 minutes.

Frequency of Response: On occasion.

Estimated Number of Respondents: 312.

Dated: August 22, 2013.
By direction of the Secretary.
Crystal Rennie,
VA Clearance Officer, U.S. Department of Veterans Affairs.

[FR Doc. 2013-20902 Filed 8-27-13; 8:45 am]

BILLING CODE 8320-01-P